FEDERAL COMMUNICATIONS COMMISSION

Notice of Public Information Collection(s) Being Reviewed by the Federal Communications Commission for Extension Under Delegated Authority, Comments Requested

SUMMARY: The Federal Communications Commission, as part of its continuing effort to reduce paperwork burden invites the general public and other Federal agencies to take this opportunity to comment on the following information collection(s), as required by the Paperwork Reduction Act (PRA) of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid OMB control number. No person shall be subject to any penalty for failing to comply with a collection of information subject to the Paperwork Reduction Act (PRA) that does not display a currently valid OMB control number.

DATES: Written Paperwork Reduction Act (PRA) comments should be submitted on or before November 18, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via e-mail to PRA@fcc.gov.

FOR FURTHER INFORMATION CONTACT: Judith B. Herman, Office of Managing Director, (202) 418-0214. For additional information, contact judith-b.herman@fcc.gov, Office of Managing Director, 202-418-0214.

SUPPLEMENTARY INFORMATION: OMB Control Number: 3060-1122.

Title: Preparation of Annual Reports to Congress for the Collection and Expenditure of Fees or Charges for Enhanced 911 (E911) Services Under the NET 911 Improvement At of 2008.

Form No.: N/A.

Type of Review: Extension of a currently approved collection.

Respondents: State, local or tribal government.

Number of Respondents and Responses: 56 respondents; 56 responses.

Estimated Time Per Response: 50 hours.

Frequency of Response: Annual reporting requirement and recordkeeping requirement.

Obligation to Respond: Voluntary. Statutory authority for this information collection is contained in the New and Emerging Technologies 911 Improvement Act of 2008, Public Law 110-283, 122 Stat. 2620 (2008) (NET 911 Act).

Total Annual Burden: 2,800 hours.

Total Annual Cost: N/A.

Privacy Act Impact Assessment: N/A.

Nature and Extent of Confidentiality: There are no assurances of confidentiality provided to respondents. The Commission's rules address the issue of confidentiality in sections 47 CFR 0.457, 0.459, and 0.461. These rules address access to records that are not routinely available to the public, requests and requirements that materials submitted to the Commission be withheld from public inspection, and requests for inspection of materials not routinely available to the public.

Needs and Uses: The Commission will submit this expiring information collection to the OMB after this comment period to obtain the three year clearance from them. There is no change in the Commission's burden estimates. There are no changes in the reporting and/or recordkeeping requirements.

The purpose of the information collection is to meet the Commission's ongoing statutory obligations under the New and Emerging Technologies 911 Improvement Act of 2008, which requires the Commission to submit an annual report to congress detailing the status in each state of the collection and distribution of such fees or charges, and including findings on the amount of revenues obligated or expended by each state or political subdivision thereof for any purpose other than the purpose for which any such fees or charges are specified.

Dated: September 12, 2011.
Federal Communications Commission.
Marlene H. Dortch,
Secretary, Office of the Secretary, Office of Managing Director.

[FR Doc. 2011-23955 Filed 9-16-11; 8:45 am]

BILLING CODE 6712-01-P